DEPARTMENT OF AGRICULTURE

Forest Service

Information Collection; Urgent Removal of Timber

AGENCY: Forest Service, USDA.

ACTION: Notice; correction.

SUMMARY: The Forest Service published an Information Collection Request for Comment in the Federal Register of March 24, 2009. The document contained an incorrect e-mail address.

FOR FURTHER INFORMATION CONTACT: Lathrop Smith, Forest Management staff, at 202-205-0858. Individuals who use telecommunication devices for the deaf (TDD) may call the Federal Relay Service (FRS) at 1-800-877-8339 twenty-four hours a day, every day of the year, including holidays.

Correction

In the Federal Register of March 24, 2009, (73 FR 12303), on page 12303, in the ADDRESSES section, correct the e-mail address to read:

ADDRESSES: Comments concerning this notice should be addressed to Director, Forest Management, 1400 Independence Avenue, SW., Mailstop 1103, Washington, DC 20250-1103.

Comments also may be submitted via facsimile to 202-205-1045 or by e-mail to: urgent_removal@fs.fed.us.

Dated: April 2, 2009.
Richard W. Sowa,
Acting Assistant Deputy Chief, National Forest System.

[FR Doc. E9-8026 Filed 4-8-09; 8:45 am]

BILLING CODE 3410-11-P